ENVIRONMENTAL PROTECTION AGENCY

[FRL-8929-5; EPA-HQ-OEI-2008-0062]

Type of Action: New; Establishment of a New System of Records for the Science Advisory Board (SAB) Database of Scientific and Technical Experts

AGENCY: Environmental Protection Agency (EPA).

ACTION: Notice.

SUMMARY: Pursuant to the provisions of the Privacy Act of 1974 (5 U.S.C. 552a), the Office of the Administrator, SAB Staff Office is giving notice that it proposes to create a new system of records for the SAB Database of Scientific and Technical Experts.

DATES: Persons wishing to comment on this system of records notice must do so by August 24, 2009.

ADDRESSES: Submit your comments, identified by Docket ID No. EPA-HQ-2008-0062, by one of the following methods:

• http://www.regulations.gov: Follow the online instructions for submitting comments.

• E-mail: oei.docket@epa.gov.

• Fax: 202-566-1752.

• Mail: OEI Docket, Environmental Protection Agency, Mailcode: 2822T, 1200 Pennsylvania Ave., NW., Washington, DC 20460.

• Hand Delivery: OEI Docket, EPA/DC, EPA West Building, Room 3334, 1301 Constitution Ave., NW., Washington, DC. Such deliveries are only accepted during the Docket's normal hours of operation, and special arrangements should be made for deliveries of boxed information.

Instructions: Direct your comments to Docket ID No. EPA-HQ-OEI-2008-0062. EPA's policy is that all comments received will be included in the public docket without change and may be made available online at http://www.regulations.gov, including any personal information provided, unless the comment includes information claimed to be Confidential Business Information (CBI) or other information for which disclosure is restricted by statute. Do not submit information that you consider to be CBI or otherwise protected through http://www.regulations.gov. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information for which disclosure is restricted by statute. Certain other material, such as copyrighted material, will be publicly available only in hard copy. Publicly available docket materials are available either electronically in http://www.regulations.gov or in hard copy at the OEI Docket, EPA/DC, EPA West Building, Room 3334, 1301 Constitution Ave., NW., Washington, DC. The Public Reading Room is open from 8:30 a.m. to 4:30 p.m., Monday through Friday excluding legal holidays. The telephone number for the Public Reading Room is (202) 566-1744, and the telephone number for the OEI Docket is (202) 566-1745.

FOR FURTHER INFORMATION CONTACT: Dr. Angela Nugent, Special Assistant to the Director, SAB Staff Office, U.S. Environmental Protection Agency, Mail Code 1400F, 1200 Pennsylvania Avenue, NW., Washington, DC 20460; telephone number (202) 343-9981; e-mail address: nugent.angela@epa.gov.

SUPPLEMENTARY INFORMATION:

I. General Information

The U.S. Environmental Protection Agency plans to create a Privacy Act system of records to centralize, standardize and safeguard the information submitted by experts who support three scientific and technical advisory committees (i.e., the Science Advisory Board, the Clean Air Scientific Advisory Committee, and the Advisory Council on Clean Air Compliance Analysis) that report to EPA's Administrator. The SAB Staff Office: (1) Requests nominations from the public for qualified individuals to serve as experts on committees and panels that advise the Administrator; (2) identifies experts to become Special Government Employees (SGEs) to serve on the advisory committees and panels; (3) manages the SGEs' personnel paperwork and ensures that SGEs comply with ethics training and financial disclosure requirements of the Ethics in Government Act, 5 U.S.C. App. 4; and (4) coordinates experts' participation in approximately fifty advisory projects per year and approximately eighty meetings per year. The SAB Staff Office conducts these activities to provide the Administrator with scientific advice from balanced committees of qualified experts on high priority science issues.

To manage the above activities in an efficient manner that protects the privacy of the scientific experts, the SAB Staff Office has integrated personal information provided by the experts in a central SAB Database. Consolidating information about individual experts in a central location allows for consistent procedures to be followed for protecting privacy-related information necessary to manage and support the advisory committees for which the SAB Staff Office is responsible.

Records in the SAB Database of Scientific and Technical Experts are safeguarded from unauthorized use. Only SAB Staff Office personnel and a very limited number of database support contractors have access to consolidated personal information in the password-protected SAB databases. Some generally available information such as experts' institutional affiliation and biographical sketches are accessible via the EPA SAB Web site (http://www.epa.gov/sab). Security procedures have been approved through the Application Development Process administered by EPA's Office of Environmental Information.

The system is maintained at the U.S. EPA, 1025 F Street, NW., Suite 3600, Mail Code 1400F, Washington, DC 20004.

Dated: June 22, 2009.
Linda A. Travers,
Acting Assistant Administrator and Chief Information Officer.

EPA-58

System Name:

EPA Science Advisory Board (SAB) Database of Scientific and Technical Experts.

System Location:

U.S. EPA, 1025 F Street, NW., Suite 3600, Mail Code 1400F, Washington, DC 20004.

Categories of Individuals Covered by the System:

Scientific and technical experts currently serving on committees and panels administered by the SAB Staff Office; scientific and technical experts who have served on such committees and panels since 2002; and scientific and technical experts nominated to serve on planned SAB Staff Office-supported committees and panels.

Categories of Records in the System:

Name, home contact information (address and telephone number); professional contact information (e.g., professional title, institutional affiliation, and work contact information); terms of appointment to advisory committees and panels; expertise information (e.g., curricula vitae and professional biographical sketches); and administrative history information (e.g., history of personnel actions, confidential financial disclosure forms, and annual ethics training).

Authority for Maintenance of the System (includes any revisions or amendments):

The authority for the establishment or appointment of these advisory committees is as follows: For the SAB, the Environmental Research, Development, and Demonstration Authorization Act, 42 U.S.C. 4365; for the Clean Air Scientific Advisory Committee, section 109(d)(2) of the Clean Air Act, 42 U.S.C. 7409(d)(2); and for the Advisory Council on Clean Air Compliance Analysis, section 312(f) of the Clean Air Act, 42 U.S.C. 7612(f).

Purpose(s):

This system of records is being created to assist EPA with providing management and technical support to three scientific and technical advisory committees (the SAB, the Clean Air Scientific Advisory Committee, and the Advisory Council on Clean Air Compliance Analysis) that report to the EPA Administrator. The SAB Staff Office requests nominations of experts from the public wishing to nominate themselves or others for committees and panels providing advice; identifies experts to become Special Government Employees (SGEs) serving on advisory committees and panels; manages their personnel paperwork; ensures that SGEs comply with ethics training and financial disclosure requirements of the Ethics in Government Act; and coordinates experts' participation in approximately fifty advisory projects per year and approximately eighty meetings per year. The SAB Staff Office conducts these activities to provide the EPA Administrator with scientific advice from balanced committees of qualified experts on high priority science issues. The SAB Database of Scientific and Technical Experts assists the SAB Staff Office to achieve this goal in an efficient manner that protects the privacy of scientific experts.

Routine Uses of Records Maintained in the System, Including Categories of Users, and the Purposes of Such Uses:

General routine uses A, B, C, E, F, G, H, I, J, K and L apply to this system.

Policies and Practices for Storing, Retrieving, Accessing, Retaining, and Disposing of Records in the System:

Storage:

Records will be maintained in electronic form and stored in the password-protected SAB database on EPA's client server in Research Triangle Park.

Retrievability:

Personally-identifiable information is retrieved by expert's name or by committee or panel name.

Safeguards:

Only SAB Staff Office personnel and a very limited set of database support contractors have access to consolidated personal information in the password-protected SAB database. Security procedures have been approved through the Application Development Process administered by EPA's Office of Environmental Information. Personnel have taken security awareness training.

Retention and Disposal:

File is cumulative and is maintained indefinitely.

System Manager(s) and Address:

Dr. Anthony Maciorowski, Deputy Director, SAB Staff Office, U.S. Environmental Protection Agency, Mail Code 1400F, 1200 Pennsylvania Avenue, NW., Washington, DC 20460.

Notification Procedures:

Any individual who wants to know whether this system of records contains a record about him or her, who wants access to his or her record, or who wants to contest the contents of a record, should make a written request to the Freedom of Information Office, Attention: Privacy Act Officer. Complete EPA Privacy Act procedures are set out at 40 CFR part 16.

Record Access Procedures:

Requesters will be required to provide adequate identification, such as a driver's license, employee identification card, or other identifying document.

Contesting Records Procedures:

Requests for correction or amendment must identify the record to be changed and the corrective action sought. Complete EPA Privacy Act procedures are set out at 40 CFR part 16.

Record Source Categories:

Individuals who are scientific and/or technical experts.

System exempted from certain provisions of the Privacy Act:

None.

[FR Doc. E9-16493 Filed 7-10-09; 8:45 am]

BILLING CODE 6560-50-P